NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. chapter 35).

Information pertaining to the proposed rule requirements to be submitted:

1. Type of submission, new, revision, or extension: Revision.

2. The title of the information collection: Operator License Eligibility and Use of Simulation Facilities in Operator Licensing and Simulation Facility Certification.

3. The form number if applicable: NRC Form 474.

4. How often the collection is required: One-time basis for initial simulation facility certification and quadrennially thereafter.

5. Who will be required or asked to report: Holders of and applicants for facility power operating licenses and individual operators' licenses.

6. An estimate of the number of responses: 70 simulation facility licensees.

7. The estimated number of annual respondents: 18.

8. An estimate of the total number of hours needed annually to complete the proposed rule requirement or request: 120 hours per response for a total burden reduction of 2,160 hours.

9. An indication of whether Section 3507(d), Pub. L. 104-13 applies: Not applicable.

10. Abstract: 10 CFR Part 55, “Operators' Licenses,” of the NRC's regulations, specifies information and data to be provided by applicants and facility licensees so that the NRC may make determinations concerning the licensing and requalification of operators for nuclear reactors, as necessary to promote public health and safety. The proposed rule would allow applicants for reactor operator and senior reactor operator licenses to fulfill a portion of the experience prerequisites by manipulating a plant-referenced simulator as an alternative to use of the actual plant. In addition, the proposed rule would remove current requirements for certification of simulator facilities and routine submittal of simulator performance test reports to the NRC for review.

A copy of the proposed supporting statement may be viewed free of charge at the NRC Public Document Room, 2120 L Street, NW (lower level), Washington, DC. OMB clearance requests are available at the NRC worldwide web site (http://www.nrc.gov/NRC/PUBLIC/OMB/index.html). The document will be available on the NRC home page site for 60 days after the signature date of this notice.

Comments and questions should be directed to the OMB reviewer listed below by July 24, 2000. Comments received after this date will be considered if it is practical to do so, but assurance of consideration cannot be given to comments received after this date.

Erik Godwin, Office of Information and Regulatory Affairs (3150-0018 and 3150-0138), NEOB-10202, Office of Management and Budget, Washington, DC 20503

Comments can also be submitted by telephone at (202) 395-3087.

The NRC Clearance Officer is Brenda Jo. Shelton, 301-415-7233.

Dated at Rockville, Maryland, this 16th day of June 2000.
For the Nuclear Regulatory Commission.
Brenda Jo. Shelton,
NRC Clearance Officer, Office of the Chief Information Officer.

[FR Doc. 00-15777 Filed 6-21-00; 8:45 am]

BILLING CODE 7590-01-P